DEPARTMENT OF HEALTH AND HUMAN SERVICES

National Institutes of Health

National Institute of Allergy and Infectious Diseases; Amended Notice of Meeting

Notice is hereby given of a change in the meeting of the National Institute of Allergy and Infectious Diseases Special Emphasis Panel, March 28, 2006, 10 a.m. to March 28, 2006, 6 p.m., National Institutes of Health, Rockledge 6700, 6700B Rockledge Drive, Bethesda, MD 20817 which was published in the Federal Register on March 17, 2006, 71 FRN 13858.

The ZAI1-KLW-I (M1) Special Emphasis Panel closed telephone conference meeting will be held in Conference Room 3200, 6700B Rockledge Drive, Bethesda, MD 20892. The meeting date has changed from March 28, 2006 to April 10, 2006 at 1 p.m. The meeting is closed to the public.

Dated: March 24, 2006.
Anna Snouffer,
Acting Director, Office of Federal Advisory Committee Policy.

[FR Doc. 06-3092 Filed 3-29-06; 8:45 am]

BILLING CODE 4140-01-M